DEPARTMENT OF COMMERCE

National Institute of Standards and Technology

Smart Grid Advisory Committee Meeting Cancellation

AGENCY: National Institute of Standards and Technology, Department of Commerce.

ACTION: Notice of meeting cancellation.

SUMMARY: The meeting of the Smart Grid Advisory Committee (SGAC or Committee) scheduled for Friday, April 19, 2013 from 8:30 a.m. to 5:00 p.m. Eastern Time is cancelled. Notice of this meeting was published in the Federal Register on March 26, 2013.

DATES: The SGAC meeting scheduled for Friday, April 19, 2013 from 8:30 a.m. to 5 p.m. Eastern Time is cancelled.

ADDRESSES: The SGAC meeting to be held in the Portrait Room, Administration Building, National Institute of Standards and Technology (NIST), 100 Bureau Drive, Gaithersburg, Maryland 20899 is cancelled.

FOR FURTHER INFORMATION CONTACT: Mr. Cuong Nguyen, Smart Grid and Cyber-Physical Systems Program Office, National Institute of Standards and Technology, 100 Bureau Drive, Mail Stop 8200, Gaithersburg, MD 20899-8200; telephone 301-975-2254, fax 301-975-4091; or via email at cuong.nguyen@nist.gov.

SUPPLEMENTARY INFORMATION:

The Committee was established in accordance with the Federal Advisory Committee Act, as amended, 5 U.S.C. App. The Committee is composed of ten to fifteen members, appointed by the Director of NIST, who were selected for their technical expertise and experience, established records of distinguished professional service, and knowledge of issues affecting Smart Grid deployment and operations. The Committee advises the Director of NIST on carrying out duties authorized by section 1305 of the Energy Independence and Security Act of 2007 (Pub. L. 110-140). The Committee provides input to NIST on Smart Grid standards, priorities, and gaps, on the overall direction, status, and health of the Smart Grid implementation by the Smart Grid industry, and on Smart Grid Interoperability Panel activities, including the direction of research and standards activities. Background information on the Committee is available at http://www.nist.gov/smartgrid/committee.cfm.

Pursuant to the Federal Advisory Committee Act, as amended, 5 U.S.C. App., notice is hereby given that the Smart Grid Advisory Committee (SGAC or Committee) meeting scheduled for Friday, April 19, 2013 from 8:30 a.m. to 5:00 p.m. Eastern Time is cancelled. Notice of this meeting was published in the Federal Register (78 FR 18322) on March 26, 2013.

Dated: April 10, 2013.
Willie E. May,
Associate Director for Laboratory Programs.

[FR Doc. 2013-09036 Filed 4-16-13; 8:45 am]

BILLING CODE 3510-13-P